DEPARTMENT OF LABOR

Employment and Training Administration

[TA-W-61,696]

Medtronic, Inc., Cardiovascular Division, Santa Rosa, CA; Notice of Negative Determination on Reconsideration

On August 16, 2007, the Department issued an Affirmative Determination Regarding Application for Reconsideration for the workers and former workers of Medtronic, Inc., Cardiovascular Division, Santa Rosa, California (the subject firm). The Department's Notice of Affirmative Determination was published in the Federal Register on August 27, 2007 (72 FR 49026). Workers produce cardiovascular stents (also known as coronary stents).

The initial investigation revealed that the subject firm did not import cardiovascular stents during the relevant period, that the subject firm did not shift cardiovascular stent production abroad during the relevant period, and that the subject firm sold all cardiovascular stents to a foreign source. The Department did not conduct a survey of customer's import purchases because the subject firm sold all cardiovascular stents produced at the Santa Rosa facility to a foreign facility.

In the request for reconsideration, the workers alleged that the subject firm shifted production to Ireland.

To be certified under section (a)(2)(B) of the Trade Act, the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

During the reconsideration investigation, the Department found that cardiovascular stent production did shift to Ireland. However, Ireland does not have a free trade agreement with the United States and is not named as a beneficiary country under the Andean Trade Preference Act, the African Growth and Opportunity Act or the Caribbean Basin Economic Recovery Act. Further, the Department found that, following the shift of production abroad, the subject firm did not import or have plans to import articles that are like or directly competitive with the cardiovascular stents produced at the subject firm.

In order for the Department to issue a certification of eligibility to apply for Alternative Trade Adjustment Assistance (ATAA), the subject worker group must be certified eligible to apply for Trade Adjustment Assistance (TAA). Since the subject workers are denied eligibility to apply for TAA, the workers cannot be certified eligible for ATAA.

Conclusion

After careful reconsideration, I affirm the original notice of negative determination of eligibility to apply for worker adjustment assistance for workers and former workers of Medtronic, Inc., Cardiovascular Division, Santa Rosa, California.

Signed at Washington, DC, this 11th day of September 2007.
Elliott S. Kushner,
Certifying Officer, Division of Trade Adjustment Assistance.

[FR Doc. E7-18616 Filed 9-20-07; 8:45 am]

BILLING CODE 4510-FN-P